DEPARTMENT OF HEALTH AND HUMAN SERVICES

Centers for Disease Control and Prevention

[60Day-24-24EK; Docket No. CDC-2024-0026]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled B. multivorans Ice Machine Multistate Investigation. This is an outbreak investigation which aims to evaluate the associations between Burkholderia multivorans infections among hospitalized patients and potential exposures to nonsterile ice and water from ice machines to help inform measures to prevent ongoing transmission.

DATES: CDC must receive written comments on or before June 11, 2024.

ADDRESSES: You may submit comments, identified by Docket No. CDC-2024-0026 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

B. multivorans Ice Machine Multistate Investigation—New—National Center for Emerging and Zoonotic Infectious Diseases (NCEZID), Centers for Disease Control and Prevention (CDC).

Background and Brief Description

CDC has been assisting state and local jurisdictions investigate clusters of Burkholderia multivorans infections among patients admitted across four hospitals in two non-contiguous states. The outbreak strain of the bacteria has been identified in environmental samples from ice machines. Molecular analysis has shown that the bacterial strain identified in ice machines is genetically highly similar to the patient isolates. Further investigation revealed that the same brand of ice machine and the same filters, descaling/cleaning, and sanitizing products were used by the four hospitals. Epidemiologic and laboratory evidence suggest the possibility of contaminated nonsterile ice and water from the same brand of ice machines as a common source of exposure.

Further investigation is needed to identify the scope of the outbreak and the source of the ice machine contamination. CDC has deemed it necessary to conduct a national call for cases requesting that public health authorities report cases and clusters of B. multivorans. A case report form (CRF) was developed by CDC to assist jurisdictions in this effort. Jurisdictions will gather information using this case report form to assist in determining epidemiologic characteristics and risk factors of patients with B. multivorans as well as potential source(s) of B. multivorans, including ice machines and ice machine-related products (e.g., cleaning solutions).

The Centers for Disease Control and Prevention will share findings and recommendations with public health and healthcare partners to prevent further spread of B. multivorans infections; findings may also be shared with other relevant stakeholders and/or published in scientific journals to disseminate investigation outcomes. CDC requests OMB approval for an estimated 120 annual burden hours. There are no costs to respondents other than their time.

Estimated Annualized Burden Hours
Type of respondent | Form name | Number of respondents | Number responses per respondent | Avg. burden per response (in hrs.) | Total burden (in hrs.)
HAI/AR Program staff | Burkholderia multivorans outbreak investigation case report form | 40 | 1 | 3 | 120
Total |  |  |  |  | 120

Jeffrey M. Zirger,
Lead, Information Collection Review Office, Office of Public Health Ethics and Regulations, Office of Science, Centers for Disease Control and Prevention.

[FR Doc. 2024-07806 Filed 4-11-24; 8:45 am]

BILLING CODE 4163-18-P